DEPARTMENT OF ENERGY

Federal Energy Regulatory Commission

[Project No. 12447-001]

Fort Dodge Hydroelectric Development Company; Notice of Application Accepted for Filing and Soliciting Motions to Intervene and Protests

May 10, 2006.

Take notice that the following hydroelectric application has been filed with the Commission and is available for public inspection.

a. Type of Application: Original License.

b. Project No.: 12447-001.

c. Date filed: March 21, 2006.

d. Applicant: Fort Dodge Hydroelectric Development Company.

e. Name of Project: Fort Dodge Mill Dam Hydroelectric Project.

f. Location: On the Des Moines River in Webster County, Iowa. The project does not occupy federal lands.

g. Filed Pursuant to: Federal Power Act, 16 U.S.C. 791 (a)-825(r).

h. Applicant Contact: Thomas J. Wilkinson, Jr., Fort Dodge Hydroelectric Development Company, 1800 1st Ave., NE Ste. 200, Cedar Rapids, IA 52402; (319) 364-0171.

i. FERC Contact: Stefanie Harris, (202) 502-6653 or stefanie.harris@ferc.gov.

j. Deadline for filing motions to intervene and protests: July 8, 2006.

All documents (original and eight copies) should be filed with: Magalie R. Salas, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

Motions to intervene and protests and requests for cooperating agency status may be filed electronically via the Internet in lieu of paper. The Commission strongly encourages electronic filings. See 18 CFR 385.2001(a)(1)(iii) and the instructions on the Commission's Web site (http://www.ferc.gov) under the “eFiling” link.

k. This application has been accepted for filing, but is not ready for environmental analysis at this time.

l. The Fort Dodge Mill Dam Project would consist of: (1) The existing 342-foot-long by 18-foot-high concrete dam with a 230-foot-long spillway and 5 Tainter gates; (2) a 90-acre reservoir with a normal full pond elevation of 990 feet above mean sea level; (3) an existing 40-foot-wide concrete intake structure with trash rack and stop log guides; (4) an existing powerhouse to contain two proposed turbine generating units with a total installed capacity of 1,400 kW; (5) a proposed 2,400-foot-long, 13.8-kV transmission line; and (6) appurtenant facilities. The applicant estimates that the total average annual generation would be about 7,506 MWh.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must: (1) Bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. The application will be processed according to the following Hydro Licensing Schedule. Revisions to the schedule will be made as appropriate.

Issue Scoping Document: June 2006.

Notice of application is ready for environmental analysis: August 2006.

Notice of the availability of the EA: February 2007.

Ready for Commission's decision on the application: April 2007.

Magalie R. Salas,
Secretary.

[FR Doc. E6-7489 Filed 5-16-06; 8:45 am]

BILLING CODE 6717-01-P